DEPARTMENT OF HOUSING AND URBAN DEVELOPMENT

[Docket No. FR-5410-N-02]

Federal Housing Administration (FHA) First Look Sales Method Under the Neighborhood Stabilization Programs (NSP) Technical Assistance: Availability of Universal Name and Address Identification Number (NAID)

AGENCY: Office of the Assistant Secretary for Housing—Federal Housing Commissioner, HUD.

ACTION: Notice.

SUMMARY: On July 15, 2010, HUD published a Federal Register notice establishing the process by which eligible purchasers under the Neighborhood Stabilization Program (NSP) are provided a preference to acquire real estate-owned (REO) properties of FHA under the temporary First Look Sales Method. The July 15, 2010, notice requires that eligible NSP purchasers obtain a HUD-issued Name and Address Identification Number (NAID) to participate in the First Look Sales Method. This notice announces the availability of a universal NAID to aid eligible purchasers under the First Look Sales method.

DATES: The dates announced in the July 15, 2010, notice are unchanged. The FHA First Look Sales Method shall be in effect through May 31, 2013.

FOR FURTHER INFORMATION CONTACT: Ivery Himes, Director, Office of Single Family Asset Management, Office of Housing, Department of Housing and Urban Development, 451 7th Street SW., Room 9172, Washington, DC 20410; telephone number (202) 708-1672 (this is not a toll-free number). Persons with hearing or speech impairments may access this number via TTY by calling the toll-free Federal Relay Service at (800) 877-8339.

SUPPLEMENTARY INFORMATION: On July 15, 2010, at 75 FR 41255, HUD published a Federal Register notice establishing the process by which governmental entities, nonprofit organizations, and subrecipients participating in the NSP (eligible NSP purchasers) are provided a preference to acquire REO properties under FHA's temporary NSP First Look Sales Method. This temporary REO sales method furthers the goals of both NSP, to aid in the redevelopment of abandoned and foreclosed homes, and of HUD's REO sales program, to expand homeownership opportunities and strengthen communities. Through the FHA First Look Sales Method, HUD provides eligible NSP purchasers with a preference (a “first look”) to acquire FHA REO properties that are available for purchase within NSP areas. Eligible NSP purchasers may acquire such REO properties with the assistance of NSP funds for any eligible uses under the NSP, including rental or homeownership.

The July 15, 2010, notice provides that governmental entities, nonprofit organizations, and subrecipients that have received a HUD-issued NAID are eligible to participate in the First Look Sales Method (see 75 FR 41226, first column). Through this notice, HUD announces that it has issued a universal NAID to the National Community Stabilization Trust (NCST). The NCST has entered into a partnership agreement with HUD to facilitate implementation of the First Look Sales Method. The NCST will use the universal NAID to aid eligible NSP purchasers in the purchase of properties under First Look Sales Method. Eligible NSP purchasers will not be charged a fee for use of the universal NAID. Additional information regarding the NCST and its role in implementing the First Look Sales Method can be found on the NCST Web site at: http://www.stabilizationtrust.com/

Dated: November 23, 2011.
Carol J. Galante,
Acting Assistant Secretary for Housing—Federal Housing Commissioner.

[FR Doc. 2011-30890 Filed 11-30-11; 8:45 am]

BILLING CODE 4210-67-P